ENVIRONMENTAL PROTECTION AGENCY

[OPPTS-42212A; FRL-6595-2]

Priority-Setting Workshop for the Endocrine Disruptor Screening Program; Extension of Comment Period

AGENCY: Environmental Protection Agency (EPA).

ACTION: Notice.

SUMMARY: EPA is extending the comment period, announced in the May 19, 2000, Federal Register, for issues discussed at the June 5-7 Priority-Setting Workshop for the Endocrine Disruptor Screening Program (EDSP), from July 7, 2000 to August 25, 2000. The Agency has developed a draft version of a priority-setting system for the selection of chemicals for testing in the EDSP and seeks public input on the further design and implementation of the system.

DATES: Comments, identified by docket control number OPPTS-42212A, must be received on or before August 25, 2000.

ADDRESSES: Comments may be submitted by mail, electronically, or in person. Please follow the detailed instructions for each method as provided in Unit I. of the SUPPLEMENTARY INFORMATION. To ensure proper receipt by EPA, it is imperative that you identify docket control number OPPTS-42212A in the subject line on the first page of your response.

FOR FURTHER INFORMATION CONTACT: For general information contact:Barbara Cunningham, Director, Office of Program Management and Evaluation, Office of Pollution Prevention and Toxics (7401), Environmental Protection Agency, 1200 Pennsylvania Ave., NW., Washington, DC 20460; telephone number: (202) 554-1404; e-mail address: TSCA-Hotline@epa.gov.

For technical information contact: Jim Darr, telephone number: (202) 260-3441; e-mail address: darr.james@epa.gov or Patrick Kennedy, telephone number: (202) 260-3916; e-mail address: kennedy.patrick@epa.gov. Mailing address: Economics, Exposure, and Technology Division (7406), Office of Pollution Prevention and Toxics, Environmental Protection Agency, 1200 Pennsylvania Ave., NW., Washington, DC 20460. Electronic messages must contain the docket control number OPPTS-42212A and the heading “Endocrine Disruptor Priority-Setting Database” in the subject line on the first page of your message.

SUPPLEMENTARY INFORMATION:

I. Does This Action Apply to Me?

This action is directed to the public in general. This action may, however, be of interest to persons who manufacture, import, or use chemical substances that are addressed by the Endocrine Disruptor Priority-Setting Database (EDPSD). The general public may also have an interest in the design and implementation of the EDPSD and in other aspects of the EDSP covered at the workshop. Since other entities may also be interested, the Agency has not attempted to describe all the specific entities that may be affected by this action. If you have any questions regarding the applicability of this action to a particular entity, consult the technical person listed under FOR FURTHER INFORMATION CONTACT.

II. How Can I Get Additional Information, Including Copies of this Document or Other Related Documents?

A. Electronically. You may obtain electronic copies of this document, and certain other related documents that might be available electronically, from the EPA Internet Home Page at http://www.epa.gov/. To access this document, on the Home Page select “Laws and Regulations” and then look up the entry for this document under the “ Federal Register —Environmental Documents.” You can also go directly to the Federal Registerlistings at http://www.epa.gov/fedrgstr/.

To access information presented at the June 5-7, 2000, workshop, you may go to the website at http://www.epa.gov/scipoly/oscpendo/. A summary report of comments made at the workshop will be posted at this site by July 28, 2000.

B. In person. The Agency has established an official record for this document under docket control number OPPTS-42212A. The official record consists of the documents specifically referenced in this notice, any public comments received during an applicable comment period, and other information related to the EDPSD, including any information claimed as Confidential Business Information (CBI). This official record includes the documents that are physically located in the docket, as well as the documents that are referenced in those documents. The public version of the official record, which includes printed, paper versions of any electronic comments that may be submitted during an applicable comment period, is available for inspection in the TSCA Nonconfidential Information Center, North East Mall Rm. B-607, Waterside Mall, 401 M St., SW., Washington, DC. The Center is open from noon to 4 p.m., Monday through Friday, excluding legal holidays. The telephone number of the Center is (202) 260-7099.

III. How and to Whom Do I Submit Comments?

You may submit comments through the mail, in person, or electronically. To ensure proper receipt by EPA, it is imperative that you identify docket control number OPPTS-42212A in the subject line on the first page of your response.

A. By mail. Submit your comments to: Document Control Office (7407), Office of Pollution Prevention and Toxics (OPPT), Environmental Protection Agency, 1200 Pennsylvania Ave., NW., Washington, DC 20460.

B. In person or by courier. Deliver your comments to: OPPT Document Control Office (DCO) in East Tower Rm. G-099, Waterside Mall, 401 M St., SW., Washington, DC. The DCO is open from 8 a.m. to 4 p.m., Monday through Friday, excluding legal holidays. The telephone number for the DCO is (202) 260-7093.

C. Electronically. You may submit your comments electronically by e-mail to: “oppt.ncic@epa.gov,” or mail your computer disk to the address identified above. Do not submit any information electronically that you consider to be CBI. Electronic comments must be submitted as an ASCII file avoiding the use of special characters and any form of encryption. Comments and data will also be accepted on standard disks in WordPerfect 6.1/8.0 or ASCII file format. All comments in electronic form must be identified by docket control number OPPTS-42212A. Electronic comments may also be filed online at many Federal Depository Libraries.

IV. What Action is EPA Taking?

EPA is extending the comment period, for issues discussed at the June 5-7 Priority-Setting Workshop for the EDSP, until August 25, 2000. A description of EPA's draft EDPSD and a listing of the issues covered at the workshop were announced in the Federal Register of May 19, 2000 (65 FR 31900) (FRL-6559-9).

List of Subjects

Environmental protection, Chemicals, Endocrine disruptors, Pesticides.

Dated: July 5, 2000.
Susan H. Wayland,
Acting Assistant Administrator, Office of Prevention, Pesticides and Toxic Substances.

[FR Doc. 00-17753 Filed 7-12-00; 8:45 am]

BILLING CODE 6560-50-F